DEPARTMENT OF ENERGY

Federal Energy Regulatory Commission

[Docket No. RM12-15-000; Docket No. RM01-5-000]

Revisions to Procedural Regulations Governing Filing, Indexing and Service by Oil Pipelines, Electronic Tariff Filings; Notice of Changes to eTariff Part 341 Type of Filing Codes

Order No. 780, effective June 28, 2013, revised Part 341 of the Commission's regulations to revise the filing, indexing and service procedures used by oil pipelines.¹ Take notice that, effective December 23, 2013, the list of available eTariff Type of Filing Codes (TOFC) will be modified as follows: ²

¹ Filing, Indexing and Service Requirements for Oil Pipelines, 143 FERC ¶ 61,137 (2013) (Order No. 780).

² The type of filing business process categories are described in the Implementation Guide for Electronic Filing of Parts 35, 154, 284, 300, and 341 Tariff Filings (August 12, 2013), found on the Commission's Web site, http://www.ferc.gov/docs-filing/etariff/implementation-guide.pdf.

TOFC | Filing title | Filing category | New or revised | Description of change
830 | Rate Changes, Initial Rates & Other Tariff Changes | Normal | R | Citation updated.
840 | Embargo of effective tariff | Normal | R | Terminated. Use TOFC 830.
850 | Postponement of Tariff | Amendment | R | Terminated. Replaced by TOFC 1240.
870 | Cancellation of Tariff (partial) | Normal | R | Citation updated.
970 | New company tariff (Baseline) | Baseline—New | R | Citation updated.
1230 | Amendment | Amendment | N | Amend any pending Normal TOF Category filing.
1240 | Postponement of Suspended Tariff | Motion | N | To push out the effective date of a Suspended Tariff Record.
1250 | Concurrence | Normal | N | Concurrence Filing.

In addition, the Filing Titles for the Part 284 program have been modified to be more descriptive.

For more information, contact Aaron Kahn, Office of Energy Market Regulation at (202) 502-8339 or send an email to FERConline@ferc.gov.

Dated: November 26, 2013.
Nathaniel J. Davis, Sr.,
Deputy Secretary.

[FR Doc. 2013-28921 Filed 12-3-13; 8:45 am]

BILLING CODE 6717-01-P